DEPARTMENT OF STATE

[Public Notice 4903]

International Joint Commission Boundary Waters Treaty of 1909

The International Joint Commission (IJC) will hold public hearings on the report of its International Missisquoi Bay Task Force.

In May of this year, the Canadian and United States federal governments asked the IJC to review plans by the State of Vermont to modernize the Alburg-Swanton Bridge, involving the partial removal of the existing causeway, and to provide advice on whether the plans comply with Article IV of the Boundary Waters Treaty of 1909. Article IV states, in part, that “boundary waters and waters flowing across the boundary shall not be polluted on either side to the injury of health or property on the other.”

In June, the IJC appointed an International Missisquoi Bay Task Force with members from the two federal governments, the state of Vermont and province of Quebec. IJC Commissioners and the Task Force held public consultation sessions in Saint-Georges-de-Clarenceville, Quebec and Swanton, Vermont in August. After reviewing the full range of available information, the Task Force reported to the IJC in October. Following the scheduled public hearings, the IJC will prepare its final report to the governments of the United States and Canada.

All interested organizations and citizens are invited to speak at the public hearings on the Task Force report to be held at the following times and locations:

Monday, December 6, 2004 from 7 p.m. to 9:30 p.m. at the Centre des Loisirs—1 rue Tourangeau in Saint-Georges-de-Clarenceville, Quebec.

Tuesday, December 7, 2004 from 7 p.m. to 9:30 p.m. at the Missiquoi Valley Union High School, 100 Thunderbird Drive, Swanton, Vermont.

As time will be limited, speakers are encouraged to highlight their comments at the public hearings and provide more detailed comments in writing. Written comments may also be sent to either address below for receipt by January 4, 2005:

Secretary, Canadian Section, 234 Laurier Avenue West, 22nd Floor, Ottawa, Ontario K1P 6K6, Fax: (613) 993-5583, Voice: (613) 995-2984, Email: Commission@ottawa.ijc.org.

Secretary, United States Section, 1250 23rd Street NW., Suite 100, Washington, DC 20440, Fax: (202) 467-0746, Voice: (202) 736-9024, Email: Commission@washington.ijc.org.

The International Joint Commission is an international organization established by the Boundary Waters Treaty of 1909. It assists the governments in managing waters along the border for the benefit of both countries in a variety of ways including examining issues referred to it by the two Federal governments.

More information, including the full text of the International Missisquoi Bay Task Force Report, may be found on the Commission's Web site, at http://www.ijc.org.

November 17, 2004.
James G. Chandler,
Acting Secretary, United States Section, Department of State.

[FR Doc. 04-26050 Filed 11-23-04; 8:45 am]

BILLING CODE 4710-14-P